DEPARTMENT OF TRANSPORTATION

Federal Aviation Administration

[Summary Notice No. 2016-122]

Petition for Exemption; Summary of Petition Received; Flight Options, LLC

AGENCY: Federal Aviation Administration (FAA), DOT.

ACTION: Notice.

SUMMARY: This notice contains a summary of a petition seeking relief from specified requirements of Title 14 of the Code of Federal Regulations. The purpose of this notice is to improve the public's awareness of, and participation in, the FAA's exemption process. Neither publication of this notice nor the inclusion or omission of information in the summary is intended to affect the legal status of the petition or its final disposition.

DATES: Comments on this petition must identify the petition docket number and must be received on or before January 3, 2017.

ADDRESSES: Send comments identified by docket number FAA-2016-6581 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Dale Williams (202) 267-4179, Office of Rulemaking, Federal Aviation Administration, 800 Independence Avenue SW., Washington, DC 20591.

This notice is published pursuant to 14 CFR 11.85.

Dated: December 2, 2016.
Dale A. Bouffiou,
Deputy Director, Office of Rulemaking.

Petition for Exemption

Docket No.: FAA-2016-6581.

Petitioner: Flight Options, LLC.

Section(s) of 14 CFR Affected: 135.25(b)(c).

Description of Relief Sought: Flight Options seeks exemption from § 135.25(b), which requires a part 135 certificate holder to have the exclusive use of at least one aircraft that meets the requirements for at least one kind of operation authorized in its operations specifications. In addition, Flight Options seeks exemption from § 135.25(c), which specifies that, for the purposes of § 135.25(b), a person has exclusive use of an aircraft if that person has the sole possession, control, and use of it for flight, as owner, or has a written agreement (including arrangements for performing required maintenance), in effect when the aircraft is operated, giving the person that possession, control, and use for at least 6 consecutive months. In addition, the FAA notes that an exemption from § 135.419 may be relevant to the disposition of this petition. Section 135.419 states that the FAA Administrator may require or allow an approved aircraft inspection program for any make and model aircraft of which the certificate holder has exclusive use of at least one aircraft (as defined in § 135.25(b)). Flight Options currently operates 75 turbo jet aircraft all of which are leased aircraft. Flight Options retains responsibility for all maintenance of the aircraft on its part 135 certificates. Additionally, Flight Options maintains a part 145 repair station (No. BTVR626C). Flight Options' business model is for all aircraft also to be operated under 14 CFR part 91K and under part 91 as appropriate. Flight Options currently is in compliance with 14 CFR 135.25(b) and (c) by leasing a B-300 aircraft and maintains it on their part 135 Operations Specifications and utilizes it solely as a part 135 aircraft.

[FR Doc. 2016-29640 Filed 12-9-16; 8:45 am]

BILLING CODE 4910-13-P